DEPARTMENT OF THE TREASURY

Internal Revenue Service

26 CFR Part 25

[TD 8886]

RIN 1545-AX07

Use of Actuarial Tables in Valuing Annuities, Interests for Life or Terms of Years, and Remainder or Reversionary Interests; Correction

AGENCY: Internal Revenue Service (IRS), Treasury.

ACTION: Correction to final regulations.

SUMMARY: This document contains corrections to TD 8886, which was published in the Federal Register on Monday, June 12, 2000 (65 FR 36908). These regulations relate to the use of actuarial tables in valuing annuities, interests for life or terms of years, and remainder of reversionary interests.

DATES: Effective June 12, 2000.

FOR FURTHER INFORMATION CONTACT: William Blodgett, (202) 622-3090 (not a toll-free number).

SUPPLEMENTARY INFORMATION:

Background

The final regulations that are the subject of this correction are under section 7520 of the Internal Revenue Code.

Need for Correction

As published, TD 8886 contains errors which may prove to be misleading and are in need of clarification.

Correction of Publication

Accordingly, the publication of final regulations (TD 8886), which is the subject of FR Doc. 00-12986, is corrected as follows:

§ 25.2512-5 [Corrected]

1. On page 36942, § 25.2512-5(d)(2)(v)(A), the first formula of the page, the language

is corrected to read

2. On page 36942, § 25.2512-5(d)(2)(v)(B), the second formula running the complete width of the page, the language

is corrected to read

Cynthia E. Grigsby
Chief, Regulations Unit, Office of Special Counsel, (Modernization & Strategic Planning).

[FR Doc. 00-24707 Filed 9-27-00; 8:45 am]

BILLING CODE 4830-01-P